DEPARTMENT OF ENERGY

Federal Energy Regulatory Commission

Notice of Filing

October 20, 2000.

In the matter of: RT01-39-000, RT01-40-000, RT01-41-000, RT01-42-000, RT01-43-000, RT01-44-000, RT01-45-000, RT01-46-000, RT01-47-000, RT01-48-000, RT01-49-000, RT01-50-000, RT01-51-000, (Not Consolidated); Concord Electric Company and Exeter & Hampton Electric Light Company, Northwestern Public Service, MidAmerican Energy Company, Rayburn Country Electric Cooperative, Inc., Central Power and Light Company, West Texas Utilities Company, Public Service Company of Oklahoma and Southwestern Electric Power Company, Arizona Public Service Company, El Paso Electric Company, Public Service Company of Colorado, Public Service Company of New Mexico, Texas-New Mexico Power Company, Tuscon Electric Power Company and, Desert Star, Inc., UtiliCorp United Inc., Consumers Energy Company, Lyon Rural Electric Cooperative, United Power, Inc., White River Electric Association, Inc., Black Hills Corporation, North Central Missouri Electric Cooperative, Inc.

Take notice that on October 16, 2000, the entities listed in the caption above made compliance filings pursuant to 18 CFR 35.34(c) and the Commission's Order No. 2000.¹

¹ Regional Transmission Organizations, Order No. 2000, 65 FR 809 (January 6, 2000), FERC Stats. & Regs. 31,089 (1999), order on reh'g, Order No. 2000-A, 65 FR 12,088 (March 8, 2000), FERC Stats. & Regs. 31,092 (2000).

Any person desiring to be heard or to protest such filings should file a motion to intervene, comments, or protest with the Federal Energy Regulatory Commission, 888 First Street, NE., Washington, DC 20426, in accordance with rules 211 and 214 of the Commission's Rules of Practice and Procedure 918 CFR 385.211 and 385.214). All such motions, comments and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet a http://www.ferc.fed.us/online/rims.htm (call 202-208-2222 for assistance). Beginning November 1, 2000, comments and protests may be filed electronically via the internet in lieu of paper. See, 18 CFR 385.2001(a)(1)(iii) and the instructions on the Commission's web site http://www.ferc.fed.us/efi/doorbell.htm.

Linwood A. Watson, Jr.,
Acting Secretary.

[FR Doc. 00-27547 Filed 10-25-00; 8:45 am]

BILLING CODE 6717-01-M